DEPARTMENT OF AGRICULTURE

Forest Service

Shasta County Resource Advisory Committee (RAC)

AGENCY: USDA Forest Service.

ACTION: Notice of meeting.

SUMMARY: The Shasta County Resource Advisory Committee (RAC) will meet on the following dates in Redding, California. The purpose of the meeting will be to discuss committee actions and to review projects to nominate for approval consideration.

DATES: The meeting will be from 8 a.m. to noon on:

• January 7, 2004

• February 4, 2004

• March 3, 2004

• April 7, 2004

• May 5, 2004

• June 2, 2004

• July 7, 2004

• August 4, 2004

• September 1, 2004

• October 6, 2004

• November 3, 2004

• December 1, 2004

ADDRESSES: The meeting will be held at USDA Service Center, 3644 Avtech Parkway.

FOR FURTHER INFORMATION CONTACT: Kevin McIver, coordinator, USDA Forest Service, (530) 226-2595 or (530) 226-2500. E-mail: kmciver@fs.fed.us.

SUPPLEMENTARY INFORMATION: The meeting is open to the public. Discussion is limited to Forest Service staff and committee members. However, time may be provided for public input, giving individuals the opportunity to address the committee.

Dated: December 8, 2003.
J. Sharon Heywood,
Forest Supervisor.

[FR Doc. 03-31274 Filed 12-18-03; 8:45 am]

BILLING CODE 3410-11-M